DEPARTMENT OF DEFENSE

Office of the Secretary

32 CFR Part 112

[Docket ID: DOD-2020-OS-0036]

RIN 0790-AK33

Indebtedness of Military Personnel

AGENCY: Office of the Under Secretary of Defense for Personnel and Readiness, Department of Defense (DoD).

ACTION: Final rule.

SUMMARY: This final rule removes the DoD regulation concerning indebtedness of members of the Armed Forces. The rule provides internal DoD policies and assigns responsibilities governing delinquent indebtedness of members of the military services. This rule is unnecessary and imposes no burden on, nor imparts any relevant knowledge on, the public. The rule contains internal DoD processes only and is wholly contained DoD internal guidance. Therefore, this part can be removed from the CFR.

DATES: This rule is effective on May 7, 2020.

FOR FURTHER INFORMATION CONTACT: Lt Col Ryan Hendricks, 703-571-9301.

SUPPLEMENTARY INFORMATION: The rule is closely related to, but distinct from, 32 CFR part 113, “Indebtedness Procedures of Military Personnel,” which details the procedures by which a third party submits a complaint to collect valid debts against military members through wage garnishment or an involuntary allotment of the military member's pay. This rule, unlike 32 CFR part 113, does not create any burden to the public. It simply assigns responsibilities and procedures within DoD. DoD will modify 32 CFR part 113 to remove references to part 112.

It has been determined that publication of this CFR part removal for public comment is impracticable, unnecessary, and contrary to public interest since it is based on removing DoD internal policies and procedures that are publicly available in DoD Instruction 1344.09, “Indebtedness of Military Personnel,” most recently updated on December 8, 2008 (available at https://www.esd.whs.mil/Portals/54/Documents/DD/issuances/dodi/134409p.pdf).

This rule is not significant under Executive Order (E.O.) 12866, “Regulatory Planning and Review.” Therefore, the requirements of E.O. 13771, “Reducing Regulation and Controlling Regulatory Costs,” do not apply.

List of Subjects in 32 CFR Part 112

Claims; Credit; Military personnel.

PART 112—[REMOVED]

Accordingly, by the authority of 5 U.S.C. 301, 32 CFR part 112 is removed.

Dated: April 20, 2020.
Aaron T. Siegel,
Alternate OSD Federal Register Liaison Officer, Department of Defense.

[FR Doc. 2020-08680 Filed 5-6-20; 8:45 am]

BILLING CODE 5001-06-P